DEPARTMENT OF THE INTERIOR

National Park Service

National Register of Historic Places; Notification of Pending Nominations

Nominations for the following properties being considered for listing in the National Register were received by the National Park Service before September 2, 2000. Pursuant to section 60.13 of 36 CFR Part 60 written comments concerning the significance of these properties under the National Register criteria for evaluation may be forwarded to the National Register, National Park Service, 1849 C St. NW, NC400, Washington, DC 20240. Written comments should be submitted by September 27, 2000.

Carol D. Shull,
Keeper of the National Register.

ARIZONA

Gila County

Randall, Alfred Jason, House, AZ 87, Pine, 00001165

CALIFORNIA

Los Angeles County

Angels Flight Railway, Hill St., Los Angeles, 00001168

Club Casa Del Mar, 1910 Ocean Ave., Santa Monica, 00001169

San Diego County

San Diego Veterans' War Memorial Building—Balboa Park, 3325 Zoo Dr., San Diego, 00001167 Santa Barbara County

Stow House, 304 N. Los Carneros Rd., Goleta, 00001166

FLORIDA

Manatee County

Villa Serena Apartments, (Whitfield Estates Subdivision MPS) 7014 Willow St., Sarasota, 00001172

LOUISIANA

Jefferson Parish

Martin, Ed, Seafood Company Factory and House, 300 Sala Ave. and 306 Sala House, Westwego, 00001170

MISSOURI

St. Louis Independent city

A & P Food Stores Building, 6016, 6014, and 6018 Delmar, St. Louis (Independent City), 00001171

TEXAS

Grayson County

Sherman US Post Office and Courthouse, 101 E. Pecan St., Sherman, 00001173

Hays County

San Antonio US Post Office and Courthouse, 615 E. Houston St., San Antonio, 00001174

Potter County

Amarillo US Post Office and Courthouse, 205 E. Fifth St., Amarillo, 00001175

UTAH

Sanpete County

Wales Co-operative Mercantile Institution, 150 N. State St., Wales, 00001176

[FR Doc. 00-23330 Filed 9-11-00; 8:45 am]

BILLING CODE 4310-70-P